DEPARTMENT OF COMMERCE

National Oceanic and Atmospheric Administration

Agency Information Collection Activities; Submission to the Office of Management and Budget (OMB) for Review and Approval; Comment Request; Tornado Watch/Warning Post-Event Evaluation

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 9, 2024.

ADDRESSES: Interested persons are invited to submit written comments to Adrienne Thomas, NOAA PRA Officer, at NOAA.PRA@noaa.gov. Please reference OMB Control Number 0648-0797 in the subject line of your comments. Do not submit Confidential Business Information or otherwise sensitive or protected information.

FOR FURTHER INFORMATION CONTACT: Requests for additional information or specific questions related to collection activities should be directed to Dr. Makenzie Krocak, Research Scientist, NOAA NSSL, 120 David L. Boren Blvd., Norman, OK 73071, 405-325-0805, makenzie.krocak@noaa.gov.

SUPPLEMENTARY INFORMATION:

I. Abstract

Each year over 1,000 tornadoes affect communities across the United States, yet little is known about how individuals receive, interpret, and respond to information from NOAA relating to this hazard. In fact, only a small sample of tornadoes ever receive study, and most often those are only the most violent tornadoes. No generalizable, or even relatively large-scale information on tornado forecast and warning response after real-world events exists. The NOAA National Weather Service (NWS) and National Severe Storms Laboratory (NSSL) designed the data collection instrument to allow for more routine collection of this information. Respondents include members of the United States public who have been in or near a tornado, received a tornado warning, or were in or near a strong storm that made them concerned about tornadoes. They answer questions about the ways they received, understood, and responded to information about the event, including NWS watch and warning information. This survey is delivered through a web application hosted by NSSL called Tornado Tales, available online at https://inside.nssl.noaa.gov/tornado-tales/.

After approval of our initial data collection instrument (that shown on the website), the OU Cooperative Institute for Severe and High-Impact Weather Research and Operations (CIWRO) and NOAA NSSL Behavioral Insights Unit carried out post-event data collections for multiple tornado events, validating the questions and identifying issues for improvement. This fieldwork led to several needed improvements, including the addition of questions about the event more broadly, changing some response types, rephrasing some questions that were interpreted too broadly, and including questions about efficacy and the availability of forecast information to individuals. While the revisions have added questions to the survey, their improved clarity should allow for faster response times per question. We estimate the time to complete the survey is five to ten minutes on average. Subject recruitment will primarily be done by NOAA NSSL and its partners advertising the survey via websites and social media outlets. In addition to these efforts, there is also the possibility that during post-storm damage assessment activities NWS forecasters may direct impacted individuals to the Tornado Tales website.

In addition to the changes to the survey instrument, researchers at NOAA NSSL and at the OU CIWRO Behavioral Insights Unit would like to conduct interviews with emergency managers, broadcast meteorologists, and members of the public after certain tornado events. These more in-depth interviews will collect similar information to the survey instrument from members of the public, broadcast meteorologists, and Emergency Management personnel who recently experienced a tornado event. The interviews will walk respondents through a timeline of events leading up to the tornado event. Researchers will use a skip-logic approach, meaning participants will only answer questions about the time periods relevant to their personal experience. The purpose of these interviews will be to more thoroughly explore how residents, broadcast meteorologists, and Emergency Managers received, understood, and responded to tornado forecasts and warnings. Given the in-person nature of these interviews, we expect them to take between 15 and 30 minutes on average.

II. Method of Collection

The method of data collection currently gathers tornado survivor stories through a web-based interface (https://inside.nssl.noaa.gov/tornado-tales). Specific questions in the web-based application are aimed at discovering whether and how information about potential tornado threats was received across time, including tornado watches and warnings, and what action citizens did or did not take as the event unfolded. We use a `skip-logic' method in the survey so that individuals only answer questions that are relevant to their experiences.

The interviews will be conducted in-person or via video call with individuals who recently experienced a tornado event. Researchers will also use a skip-logic approach during the interviews such that respondents will not be asked questions that are not relevant to their experience (i.e., questions about time periods before respondents received any forecast or warning information). Consent will be obtained to take notes and record the interviews.

III. Data

OMB Control Number: 0648-0797.

Form Number(s): None.

Type of Review: Revision.

Affected Public: Individuals or households.

Estimated Number of Respondents: survey: 1,200, interviews: 50.

Estimated Time per Response: survey: 5-10 minutes, interviews: 15-30 minutes.

Estimated Total Annual Burden Hours: survey: 200 hours, interviews: 25 hours.

Estimated Total Annual Cost to Public: None.

Respondent's Obligation: Voluntary.

Legal Authority:

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-02658 Filed 2-8-24; 8:45 am]

BILLING CODE 3510-KE-P